DEPARTMENT OF LABOR

Occupational Safety and Health Administration

[Docket No. ICR-1218-0224(2002)]

Overhead and Gantry Cranes Standard; Extension of the Office of Management and Budget's (OMB) Approval of Information-Collection (Paperwork) Requirements

AGENCY: Occupational Safety and Health Administration (OSHA), Labor.

ACTION: Request for comment.

SUMMARY: OSHA requests comment concerning its proposal to extend OMB approval of the information-collection requirements specified by its Overhead and Gantry Cranes Standard (29 CFR 1910.179). The paperwork provisions of this standard specify requirements for: Marking the rated load of cranes; preparing, maintaining, and disclosing certification records of hook, hoist chain, and rope inspections and load test reports. The purpose of the requirements is to provide information to employees concerning tests and inspection of critical components of the crane and to provide information about the lifting limits of the crane. This information will be useful in preventing death and serious injuries by ensuring that employees operate overhead and gantry cranes within the rated loads marked on the equipment.

DATES: Submit written comments on or before August 19, 2002.

ADDRESSES: Submit written comments to the Docket Office, Docket No. ICR-1218-0224 (2002), OSHA, U.S. Department of Labor, Room N-2625, 200 Constitution Avenue, NW, Washington, DC 20210; telephone (202) 693-2350. Commenters may transmit written comments of 10 pages or less by facsimile to (202) 693-1648.

FOR FURTHER INFORMATION CONTACT: Theda Kenney, Directorate of Safety Standards Programs, OSHA, U.S. Department of Labor, Room N-3609, 200 Constitution Avenue, NW, Washington, DC 20210; telephone (202) 693-2222. A copy of the Agency's Information-Collection Request (ICR) supporting the need for the information collections specified by the Overhead and Gantry Cranes Standard is available for inspection and copying in the Docket Office, or by requesting a copy from Todd Owen at (202) 693-2444. For electronic copies of the ICR contact OSHA on the Internet at http://www.osha.gov/comp-links.html, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensure that information is in the desired format, reporting burden (time and cost) is minimal, collection instruments are understandable, and OSHA's estimate of the information-collection burden is correct.

The Standard specifies several paperwork requirements. The following sections describe who uses the information collection under each requirement, as well as how they use it. The purpose of these requirements is to prevent death and serious injuries among employees by ensuring that all critical components of the crane are inspected and tested on a periodic basis and that the crane is not used to lift loads beyond its rated capacity.

• Marking the Rated Load (paragraphs (b)(3) and (b)(5)). Paragraph (b)(5) requires that the rated load be plainly marked on the side of each crane. If the crane has more than one hoist, the rated load must be marked on each hoist or the load block. The manufacturer will mark the rated loads. If the crane is modified, paragraph (b)(3) requires the new rating to be determined and marked on the crane. Reports of the rated load test are also required. This function would most likely fall to the employer. Marking the rated-load capacity of a crane ensures that employers and employees will not exceed the limits of the crane, which can result in crane failure.

• Certification Records for Hook and Hoist Chain Inspections (paragraphs (j)(2)(iii), (j)(2)(iv)). Paragraphs (j)(2)(iii) and (j)(2)(iv) require daily and monthly inspections of hooks and hoist chains, respectively. After each monthly inspection, employers are to prepare a certification record that includes the date of the inspection, the signature of the person who performed the inspection, and the serial number, or other identifier, of the inspected hook or hoist chain. Certification records provide employers, employees, and OSHA compliance officers with assurance that the hooks and hoist chains used on cranes regulated by the Standard have been inspected as required by the Standard. These inspections help assure that the equipment is in good operating condition, hereby preventing failure of the hooks or hoist chains during material handling. These records also provide the most efficient means for the compliance officers to determine that an employer is complying with the Standard.

• Reports of Rated Load Tests (paragraph (k)(2)). Under this provision, employers must make readily available test reports of load-rating tests conducted under paragraph (b)(3) for modified cranes, and for hooks repaired as stated in paragraph (l)(3)(iii)(a) of the Standard. These reports inform the employer, employees, and OSHA compliance officers that a rated load test was performed, providing information about the capacity of the crane and the adequacy of the repaired hook. This information is used by crane operators so that they will not exceed the rated load of the crane or hook.

• Certification Records of Rope Inspections (paragraph (m)). Paragraph (m)(1) requires employers to inspect thoroughly all running rope is use, and do so at least once a month. In addition, rope which has been idle for at least a month must be inspected before use, as prescribed by paragraph (m)(2), and a record prepared to certify that the inspection was done. The certification records must include the inspection date, the signature of the person conducting the inspection, and the identifier of the rope inspected. Employers must keep the certification records on file and available for inspection. The certification records provide employers, employees, and OSHA compliance officers with assurance that the ropes are in good condition.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and -transmission techniques.

III. Proposed Actions

OSHA proposed to extend the Office of Management and Budget's (OMB) approval of the collection-of-information requirements specified by its Overhead and Gantry Cranes Standard (29 CFR 1910.179). The Agency will summarize the comments submitted in response to this notice, and will include this summary in its request to OMB to extend the approval of these information-collection requirements.

Type of Review: Extension of currently approved information-collection requirement.

Title: Overhead and Gantry Cranes Standard (29 CFR 1910.179).

OMB Number: 1218-0224.

Affected Public: Business or other for-profit; not-for-profit institutions; Federal government; State, local, or tribal governments.

Number of Respondents: 35,000 cranes.

Frequency of Recordkeeping: On occasion; daily; monthly; semiannually.

Average Time per Response: Varies from 30 minutes (.50 hour) to 2 hours.

Total Annual Hours Requested: 360,140.

Total Annual Costs (O&M): $0.

IV. Authority and Signature

John L. Henshaw, Assistant Secretary of Labor for Occupational Safety and Health, directed the preparation of this notice. The authority for this notice is the Paperwork Reduction Act of 1995 (44 U.S.C. 3506), and Secretary of Labor's Order No. 3-2000 (65 FR 50017).

Signed at Washington, DC, on June 11, 2002.
John L. Henshaw,
Assistant Secretary of Labor.

[FR Doc. 02-15304 Filed 6-17-02; 8:45 am]

BILLING CODE 4510-26-M